DEPARTMENT OF THE INTERIOR

Fish and Wildlife Service

[FWS-R4-R-2013-N175; FXRS12650400000S3-123-FF04R02000]

Florida Panther National Wildlife Refuge, Collier County, Florida

AGENCY: Fish and Wildlife Service, Interior.

ACTION: Notice of intent to prepare a comprehensive conservation plan revision and environmental assessment; request for comments.

SUMMARY: We, the Fish and Wildlife Service (Service), intend to prepare a comprehensive conservation plan (CCP) revision and associated National Environmental Policy Act (NEPA) documents for Florida Panther National Wildlife Refuge (NWR), located in Collier County in southwest Florida. We provide this notice in compliance with our CCP policy to advise other Federal and State agencies, Native American Tribes, and the public of our intentions and to obtain suggestions and information on the scope of issues to be considered in the planning process.

DATES: To ensure consideration of your comments in the development of the refuge's CCP revision, we must receive your written comments by May 23, 2014. One or more public scoping meetings will be scheduled to help engage the public in this planning process; please contact Florida Panther NWR for the date(s): FloridaPantherCCP@fws.gov or 239-353-8442. Information will also be posted on the refuge's Web site: http://www.fws.gov/floridapanther/.

ADDRESSES: An online public engagement platform will be used for the engagement of the public and the submission of public comments; to access this forum, please visit: http://www.fws.gov/floridapanther/ccp.

FOR FURTHER INFORMATION CONTACT: You may also send comments, questions, and requests for information to Cheri Ehrhardt, AICP, Natural Resource Planner, P.O. Box 2683, Titusville, FL 32781-2683; FloridaPantherCCP@fws.gov; 321.861.1276 (fax); or 321-861-2368.

SUPPLEMENTARY INFORMATION:

Introduction

With this notice, we initiate our process for developing a CCP revision for Florida Panther NWR in Collier County, Florida. This notice complies with our CCP policy to: (1) Advise other Federal and State agencies, Native-American tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The original CCP for Florida Panther NWR was completed in 2000. Since much has changed in the intervening time, the Service has determined that the CCP for Florida Panther NWR needs to be revised. The purpose for revising the CCP is to provide refuge managers with an updated 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. We encourage input in the form of issues, concerns, ideas, and suggestions for the future management of Florida Panther NWR.

We will conduct the environmental review of this project in accordance with the requirements of the National Environmental Policy Act of 1969, as amended (NEPA) (42 U.S.C. 4321 et seq.); NEPA regulations (40 CFR 1500-1508); other appropriate Federal laws and regulations; and our policies and procedures for compliance with those laws and regulations.

Purposes of Florida Panther NWR

Established in 1989 and encompassing 26,605 acres, Florida Panther NWR's purposes are to conserve fish, wildlife, and plants that are listed as threatened or endangered species (Endangered Species Act of 1973) and for the development, advancement, management, conservation, and protection of fish and wildlife resources (Fish and Wildlife Act of 1956). Two key Service documents played a strong role in defining the purposes of Florida Panther NWR; they prioritize the protection and recovery of the Florida panther: (1) The 1985 Fakahatchee Strand Environmental Assessment, which clearly states that the refuge area should be acquired for the benefit and recovery of the endangered Florida panther; and (2) the 1995 and subsequent 2008 revisions of the Florida Panther Recovery Plan, which states that the refuge is essential to the survival of the Florida panther and that the refuge should enhance habitat conditions for the panther and its prey species.

Public Availability and Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: March 11, 2014.
Jacquelyn B. Parrish,
Acting Regional Director.

[FR Doc. 2014-09241 Filed 4-22-14; 8:45 am]

BILLING CODE 4310-55-P